FEDERAL COMMUNICATIONS COMMISSION

[FR ID 28760]

Meeting of the Ending 9-1-1 Fee Diversion Now Strike Force; Correction

AGENCY: Federal Communications Commission.

ACTION: Notice; correction.

SUMMARY: The Federal Communications Commission (Commission) published a document in the Federal Register of May 20, 2021. The document announced the first meeting of the “Ending 9-1-1 Fee Diversion Now Strike Force” (911 Strike Force) and provided a preliminary agenda for the meeting. This document corrects the document to explain that good cause exists for giving fewer than 15 calendar days' notice for that meeting.

DATES: May 25, 2021.

ADDRESSES: Federal Communications Commission, 45 L Street NE, Washington, DC 20554.

FOR FURTHER INFORMATION CONTACT: John A. Evanoff, Designated Federal Officer, Federal Communications Commission, Public Safety and Homeland Security Bureau, (202) 418-0848; or Jill Coogan, Deputy Designated Federal Officer, Federal Communications Commission, Public Safety and Homeland Security Bureau, (202) 418-1499; or email: 911StrikeForce@fcc.gov.

SUPPLEMENTARY INFORMATION:

Correction

In the Federal Register of May 20, 2021, in FR Doc. 2021-10597, on page 27432, in the third column, correct SUPPLEMENTARY INFORMATION by adding the following language to read:

Good cause for late notice: This Notice of public meeting is being published fewer than 15 days before the meeting date of June 3, 2021. This Notice of public meeting, publishing on May 20, 2021, provides 14 days before the meeting date of June 3, 2021. There is good cause for this late notice. This notice was published late due to extenuating circumstances, including the ongoing COVID-19 pandemic, and the need for additional scheduling arrangements to ensure the ability of all 911 Strike Force members to participate in this initial meeting and to accommodate member and staff schedules. Thus, the FCC was unable to submit the meeting Notice to the OFR in time for the OFR to schedule publication to satisfy the 15-day advance notice requirement without causing significant disruption to 911 Strike Force members and FCC staff.

Federal Communications Commission.
Lisa Fowlkes,
Chief, Public Safety and Homeland Security Bureau.

[FR Doc. 2021-11145 Filed 5-21-21; 4:15 pm]

BILLING CODE 6712-01-P